DEPARTMENT OF TRANSPORTATION

Federal Aviation Administration

14 CFR Part 39

[Docket No. FAA-2005-20691; Directorate Identifier 2004-NM-249-AD]

RIN 2120-AA64

Airworthiness Directives; Boeing Model 757-200 and -300 Series Airplanes

AGENCY: Federal Aviation Administration (FAA), Department of Transportation (DOT).

ACTION: Notice of proposed rulemaking (NPRM).

SUMMARY: The FAA proposes to adopt a new airworthiness directive (AD) for certain Boeing Model 757-200 and -300 series airplanes. This proposed AD would require inspecting for the part number, the serial number, and the mark “RETESTED” on the reaction link of the main landing gear (MLG), and replacing the reaction link of the MLG with a retested reaction link if necessary. This proposed AD is prompted by a report of faulty welds in certain reaction links. We are proposing this AD to prevent failure of the reaction link, collapse of the MLG, and consequently, loss of control on the ground and possible damage to the airplane.

DATES: We must receive comments on this proposed AD by May 9, 2005.

ADDRESSES: Use one of the following addresses to submit comments on this proposed AD.

DOT Docket Weba site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street, SW., room PL-401, on the plaza level of the Nassif Building, Washington, DC. This docket number is FAA-2005-20691; the directorate identifier for this docket is 2004-NM-249-AD.

FOR FURTHER INFORMATION CONTACT: Dennis Stremick, Aerospace Engineer, Airframe Branch, ANM-120S, FAA, Seattle Aircraft Certification Office, 1601 Lind Avenue, SW., Renton, Washington 98055-4056; telephone (425) 917-6450; fax (425) 917-6590.

SUPPLEMENTARY INFORMATION:

Comments Invited

We invite you to submit any relevant written data, views, or arguments regarding this proposed AD. Send your comments to an address listed under ADDRESSES. Include “Docket No. FAA-2005-20691; Directorate Identifier 2004-NM-249-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that a reaction link for a Boeing Model 757 series airplane's main landing gear (MLG) fractured when proof-testing of the welds took place. The fracture occurred at one of two welds in the reaction link. Due to the weld fracture, other parts from the same weld lot were proof-tested at a higher load. During the second test, a second weld fracture occurred, indicating the potential for poor quality welds to pass the production proof load specified in the drawing.

Metallurgical examination revealed contamination at the weld surface. The vendor has since identified a total of 41 suspect reaction links. All of the suspect reaction links have passed the production proof load, which is approximately 1.3 times limit load. However, all of the reaction links welded prior to correcting the contamination problem must be removed and retested to validate compliance with ultimate load requirements. The faulty welds, if not corrected, could result in failure of the reaction link, collapse of the MLG, and consequently, loss of control on the ground and possible damage to the airplane.

Relevant Service Information

We have reviewed Boeing Service Bulletins 757-32-0155, dated September 30, 2004; and 757-32-0156, dated September 30, 2004. The service bulletins describe procedures for inspecting for the part number, the serial number, and the mark “RETESTED” on the reaction link of the MLG, and replacing the reaction link of the MLG with a retested reaction link if necessary. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as described in “Difference Between this Proposed AD and the Service Bulletins.” The proposed AD would also require sending the inspection results to the Manager, Seattle Aircraft Certification Office, FAA.

Difference Between This Proposed AD and the Service Bulletins

Although the Accomplishment Instructions of the service bulletins do not specify an inspection report, this proposed AD would require submitting an inspection report to the FAA if the inspection finds reaction links that are required to be replaced. We need further information on the extent of the quality control (QC) problem. When the unsafe condition addressed by an AD is likely due to a manufacturer's QC problem, a reporting requirement is instrumental in ensuring that we can gather as much information as possible regarding the extent and nature of the QC problem or breakdown, especially in cases where such data may not be available through other established means. This information is necessary to ensure that we can apply knowledge and lessons learned from these inspections to future MLG actions.

Costs of Compliance

There are about 25 airplanes of the affected design in the worldwide fleet. This proposed AD would affect about 23 airplanes of U.S. registry. The proposed inspection would take about 1 work hour per airplane, at an average labor rate of $65 per work hour. Based on these figures, the estimated cost of the proposed AD for U.S. operators is $1,495, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20691; Directorate Identifier 2004-NM-249-AD.

Comments Due Date

(a) The Federal Aviation Administration (FAA) must receive comments on this AD action by May 9, 2005.

Affected ADs

(b) None.

Applicability

(c) This AD applies to Boeing Model 757-200 and -300 series airplanes, certificated in any category; as identified in the Effectivity of Boeing Service Bulletin 757-32-0155 and 757-32-0156, both dated September 30, 2004, as applicable.

Unsafe Condition

(d) This AD was prompted by a report of faulty welds in certain reaction links on main landing gears (MLG). We are issuing this AD to prevent failure of the reaction link, collapse of the MLG, and consequently, loss of control on the ground and possible damage to the airplane.

Compliance

(e) You are responsible for having the actions required by this AD performed within the compliance times specified, unless the actions have already been done.

Inspection and Corrective Action

(f) Within 12 months after the effective date of this AD, inspect for the part number (P/N), the serial number (S/N), and the presence of the mark “RETESTED” on the reaction link of the MLG in accordance with the Accomplishment Instructions of Boeing Service Bulletin 757-32-0155 or 757-32-0156, both dated September 30, 2004, as applicable.

(1) If the P/N and S/N do not match any P/N and S/N listed in Appendix A of the applicable service bulletin, or if the reaction link is marked “RETESTED,” no further action is required by this paragraph.

(2) If the P/N and S/N match those listed in Appendix A of the applicable service bulletin, and the reaction link is not marked “RETESTED,” before further flight, replace the reaction link with a retested reaction link in accordance with the Accomplishment Instructions of the service bulletin and perform the requirement of paragraph (g) of this AD at the time specified in paragraph (g).

Inspection Report

(g) For any reaction link with a P/N and S/N listed in the service bulletin that is or is not marked “RETESTED”: Within 30 days after accomplishing the inspection required by paragraph (f) of this AD or within 30 days after the effective date of this AD, whichever occurs later, submit a report of any positive inspection results (P/N and S/N of the reaction link match those listed in the Boeing Service Bulletins) to the Manager, Seattle Aircraft Certification Office (ACO), FAA, 1601 Lind Avenue, SW., Renton, Washington. Include the P/N and S/N of the affected reaction link, and the S/N of the airplane on which the reaction link was found, in the report. Information collection requirements contained in this AD have been approved by the Office of Management and Budget (OMB) under the provisions of the Paperwork Reduction Act of 1980 (44 U.S.C. 3501 et seq.) and have been assigned OMB Control Number 2120-0056.

Parts Installation

(h) As of the effective date of this AD, no person may install a reaction link with a P/N and S/N listed in the service bulletin that is not marked “RETESTED,” on any airplane.

Alternative Methods of Compliance (AMOCs)

(i) The Manager, Seattle ACO, has the authority to approve AMOCs for this AD, if requested in accordance with the procedures found in 14 CFR 39.19.

Issued in Renton, Washington, on March 14, 2005.
Ali Bahrami,
Manager, Transport Airplane Directorate, Aircraft Certification Service.

[FR Doc. 05-5694 Filed 3-22-05; 8:45 am]

BILLING CODE 4910-13-P